DEPARTMENT OF HEALTH AND HUMAN SERVICES

Notice of Postponement of Release of Draft NTP Monograph on Potential Developmental Effects of Cancer Chemotherapy During Pregnancy and Panel Meeting To Peer Review Draft Monograph

AGENCY: Division of the National Toxicology Program (DNTP), National Institute of Environmental Health Sciences (NIEHS), National Institutes of Health.

ACTION: Notice of postponement of draft NTP monograph and peer review panel meeting.

SUMMARY: The NTP is postponing the release of the Draft NTP Monograph on Potential Developmental Effects of Cancer Chemotherapy during Pregnancy and the peer review panel meeting. Release of the draft monograph was scheduled for September 9, 2011, and the meeting for October 19-20, 2011; both were announced on August 17, 2011 (76 FR 51034). Information about rescheduling the release of the draft monograph and the peer review will be announced in the Federal Register and posted on the NTP Web site at http://ntp.niehs.nih.gov/go/36639.

FOR FURTHER INFORMATION CONTACT: Dr. Lori White, NTP Designated Federal Officer, (919) 541-9834, whiteld@niehs.nih.gov.

Dated: August 29, 2011.
John R. Bucher,
Associate Director, National Toxicology Program.

[FR Doc. 2011-22823 Filed 9-6-11; 8:45 am]

BILLING CODE 4140-01-P